DEPARTMENT OF LABOR

Office of the Secretary

Combating Exploitive Child Labor Trough Education in Angola

AGENCY: Bureau of International Labor Affairs, U.S. Department of Labor

Announcement Type: New. Notice of Availability of Funds and Intent for Solicitation of Limited Competition for Cooperative Agreement Applications.

SUMMARY: The U.S. Department of Labor (USDOL), Bureau of International Labor Affairs (ILAB), intends to obligate up to approximately U.S. $3.5 million through a Cooperative Agreement to organization(s) to improve access to and quality of education programs as a means to combat exploitive child labor in Angola. The project(s) funded under this award should address gaps and challenges to basic education found in Angola.

ILAB intends to solicit cooperative agreement applications through a limited competition of organizations qualified to implement a project that focuses on innovative ways to provide educational services to children engaged, or at risk of engaging, in exploitive labor in Angola. Qualified organizations include any commercial, international, educational, or non-profit organization that is capable of successfully developing and implementing education projects in Angola and that meets the following criteria—qualified organizations must have (1) an established presence in Angola (i.e., one or more offices and employees) and be legally recognized and permitted to operate by the Government of Angola, and (2) direct and current experience implementing technical cooperation programs for children-in-need in Angola that aim to combat exploitive child labor and/or promote educational and training opportunities for children-in-need who are under the age of 18 years. Among the organizations deemed eligible based on this criteria are the Christian Children's Fund, Save the Children—UK, and World Vision.

Other organizations wishing to be considered under this limited competition must submit to USDOL, at the contact address provided below and within 10 working days of this announcement, a formal request for funding consideration, providing verifiable evidence that the aforementioned criteria are met. Such requests will be evaluated by USDOL, which will add any additional organizations found eligible to the list of those organizations to be considered under this limited competition.

This limited competition involves the re-granting of funds remaining from SGA 05-05 for “Combating Exploitive Child Labor through Education in Angola,” published in the Federal Register on May 27, 2005. Please refer to http://www.dol.gov/ILAB/grants/main.htm for examples of previous notices of availability of funds and solicitations for cooperative agreement applications. Further information on the specific sectors, geographical regions, and funding levels for the potential project(s) in Angola, as well as the selection criteria to be used, will be addressed in the solicitation for cooperative agreement applications that will be made available to those organizations found to be eligible for consideration under the limited competition. For a list of frequently asked questions on Child Labor Education Initiative Solicitations for Cooperative Agreement Applications, please visit http://www.dol.gov/ILAB/faq/faq36.htm.

Key Dates: Organizations—other than those specifically referenced by name in this Notice of Intent—wishing to be considered under this limited competition must submit to USDOL, at the contact address provided below, a formal request within 10 working days of the date of this announcement.

A specific solicitation for cooperative agreement applications will be provided to those organizations deemed eligible for the limited competition within 20 working days of this announcement. The solicitation will remain open for at least 30 calendar days.

To Request Consideration Under This Limited Competition or For Further Information Contact: Ms. Lisa Harvey. E-mail address: harvey.lisa@dol.gov. All formal requests for consideration and other inquiries should make reference to the USDOL Child Labor Education Initiative—Solicitations for Cooperative Agreement Applications.

Background Information: Since 1995, USDOL has supported a worldwide technical assistance program implemented by the International Labor Organization's International Program on the Elimination of Child Labor (ILO-IPEC). ILAB has also supported the efforts of other organizations involved in efforts to combat child labor internationally through the promotion of educational opportunities for children-in-need. In total, ILAB has provided over U.S. $530 million to ILO-IPEC and other organizations for international technical assistance to combat abusive child labor around the world.

USDOL's Child Labor Education Initiative seeks to nurture the development, health, safety, and enhanced future employability of children around the world by increasing access to basic education for children removed from child labor or at risk of entering it. Eliminating child labor depends, in part, on improving access to, quality of, and relevance of educational and training opportunities for children less than 18 years of age. Without improving such opportunities, children withdrawn from exploitive forms of labor may not have viable alternatives to child labor and may be more likely to return to such work or resort to other hazardous means of subsistence.

In addition to increasing access to education and eliminating exploitive child labor through direct withdrawal and prevention services to children, the Child Labor Education Initiative has the following four strategic goals:

1. Raise awareness of the importance of education for all children and mobilize a wide array of actors to improve and expand education infrastructures;

2. Strengthen formal and transitional education systems that encourage working children and those at risk of working to attend school;

3. Strengthen national institutions and policies on education and child labor; and

4. Ensure the long-term sustainability of these efforts.

When working to increase access to quality basic education, USDOL strives to complement existing efforts to eradicate the worst forms of child labor, to build on the achievements of and lessons learned from these efforts, to expand impact and build synergies among actors, and to avoid duplication of resources and efforts.

Signed at Washington, DC, this 20th day of November, 2006.
Lisa Harvey,
Grant Officer.

[FR Doc. E6-20269 Filed 11-29-06; 8:45 am]

BILLING CODE 4510-28-P